SMALL BUSINESS ADMINISTRATION

Federal Regulatory Enforcement Fairness Hearing; National Ombudsman and Region VI Regional Small Business Regulatory Fairness Board

AGENCY: U.S. Small Business Administration (SBA).

ACTION: Notice of open hearing of the Regional (Region VI) Small Business Regulatory Fairness Board.

SUMMARY: The SBA, Office of the National Ombudsman is issuing this notice to announce the location, date and time of the Regional Small Business Regulatory Fairness hearing. This hearing is open to the public.

DATES: The hearing will be held on Monday, March 14, 2011, from 9 a.m. to 11:30 a.m. (EST).

ADDRESSES: The hearing will be at the Hilton New Orleans Riverside, Two Poydras Street, 3rd Floor—Belle Chasse Room, New Orleans, LA 70140.

SUPPLEMENTARY INFORMATION: Pursuant to the Small Business Regulatory Enforcement Fairness Act (Pub. L. 104-121), Sec. 222 and the Federal Advisory Committee Act, 5 U.S.C. Appendix 2, notice is hereby given that the U.S. Small Business Administration (SBA) Region VI Regional Small Business Regulatory Fairness Board and the SBA Office of the National Ombudsman will hold a Regulatory Enforcement Fairness Hearing on Monday, March 14, 2011, at 9 a.m. The hearing will take place at the Hilton New Orleans Riverside, Two Poydras Street, 3rd Floor—Belle Chasse Room, New Orleans, LA 70140. The purpose of the hearing is for Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation to Region VI Regional Small Business Regulatory Fairness Board must contact José Méndez by March 10, 2011, in writing, by fax or e-mail in order to be placed on the agenda. José Méndez, Case Management Specialist, SBA Headquarters, 409 3rd Street, SW., Suite 7125, Washington, DC, phone (202) 205-6178 and fax (202) 481-2707, e-mail: Jose.mendez@sba.gov. Additionally, if you need accommodations because of a disability or require additional information, please contact José Méndez as well.

For more information on the Office of the National Ombudsman, see our Web site at http://www.sba.gov/ombudsman.

Dated: February 14, 2011.
Dan Jones,
SBA Committee Management Officer.

[FR Doc. 2011-3768 Filed 2-17-11; 8:45 am]

BILLING CODE 8025-01-P